DEPARTMENT OF ENERGY

Federal Energy Regulatory Commission

[Project No. P-13010-003]

Mississippi 8 Hydro LLC; Notice of Application Tendered for Filing With the Commission and Soliciting Additional Study Requests

Take notice that the following hydroelectric application has been filed with the Commission and is available for public inspection.

a. Type of Application: Original Major License.

b. Project No.: P-13010-003.

c. Date filed: December 27, 2011.

d. Applicant: Mississippi 8 Hydro LLC.

e. Name of Project: Lock and Dam 8 Hydroelectric Project.

f. Location: The project would be located on the upper Mississippi River in Houston County, Minnesota at an existing lock and dam owned and operated by the U.S. Corps of Engineers (Corps) at about river mile 679. The project would occupy federal lands managed by the U.S. Fish and Wildlife Service.

g. Filed Pursuant to: Federal Power Act 16 U.S.C. 791(a)-825(r).

h. Applicant Contact: Mr. Brent L. Smith, Chief Operating Officer, Symbiotics LLC, 371 Upper Terrace, Suite 2, Bend, OR 97702, Phone: (541) 330-8779.

i. FERC Contact: Lesley Kordella at (202) 502-6406; or email at Lesley.Kordella@ferc.gov.

j. Cooperating agencies: Federal, State, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: February 27, 2012.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-08-3676, or for TTY, (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. The proposed project would utilize the existing U.S. Army Corps of Engineers' Lock & Dam Lock and Dam 8, and would consist of the following facilities: (1) 28 0.5-MW very low head type hydraulic turbines attached to the dam's existing Tainter and roller gate structures; (2) a new 30-foot-long by 40-foot-wide control house; (3) a new 175-foot-long by 200-foot-wide substation; (4) a new 175-foot-long by 100-foot-wide storage yard; (5) a new 350-foot-long transmission line; and (6) appurtenant facilities. The average annual generation would be about 42.5 gigawatt hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary Hydro Licensing Schedule. Revisions to the schedule will be made as appropriate.

Issue Notice of Acceptance | April 2012.
Issue Scoping Document 1 for comments | May 2012.
Comments on Scoping Document 1 | June 2012.
Issue Scoping Document 2 | August 2012.
Issue notice of ready for environmental analysis | August 2012.
Commission issues EA, draft EA, or draft EIS | April 2013.
Comments on EA, or draft EA, or draft EIS | May 2013.
Commission issues final EA or final EIS | August 2013.

Final amendments to the application must be filed with the Commission no later than 30 days from the issuance date of the notice of ready for environmental analysis.

Dated: January 6, 2012.
Kimberly D. Bose,
Secretary.

[FR Doc. 2012-507 Filed 1-12-12; 8:45 am]

BILLING CODE 6717-01-P